SMALL BUSINESS ADMINISTRATION

Audit and Financial Management Advisory (AFMAC); Committee Meeting

The U.S. Small Business Administration's Audit and Financial Management Advisory Committee (AFMAC) will meet on September 30, 2004 at 9 a.m in the Chief Finanacial Officer's conference room. This will be the first meeting of the committee which was chartered in accordance with the Federal Advisory Committee Act. The AFMAC was established by the Administrator of the SBA to provide recommendation and advice regarding the Agency's financial management including the financial reporting process, systems of internal controls, audit process and process for monitoring compliance with relevant laws and regulations.

Anyone wishing to attend must contact Thomas Dumaresq in writing or by fax. Thomas Dumaresq, Chief Financial Officer, 409 3rd Street SW., Washington DC 20416, phone (202) 205-6506, fax: (202) 205-6869, e-mail: thomas.dumaresq@sba.gov

Dated: September 9, 2004.
Carmen-Rose Torres,
Director, Office of the Chief Financial Officer, Office of Analysis, Planning and Accountability.

[FR Doc. 04-20749 Filed 9-14-04; 8:45 am]

BILLING CODE 8025-01-P